DEPARTMENT OF THE INTERIOR

Bureau of Land Management

[AZ-910-0777-26-241A]

State of Arizona Resource Advisory Council Meeting

AGENCY: Bureau of Land Management, Interior.

ACTION: Arizona Resource Advisory Council Meeting notice.

SUMMARY: This notice announces a meeting and tour of the Arizona Resource Advisory Council (RAC). The meeting and tour will be held on January 25-26, in Yuma, Arizona. The business meeting will be held in the BLM Yuma Field Office, 2555 East Gila Ridge Road. It will begin at 9 a.m. and will conclude at approximately 4 p.m. The agenda items to be covered include the review of the December 12, 2000 meeting minutes; BLM State Director's Update on legislation, regulations and statewide planning efforts; Update on National Off-Highway Vehicle Use Strategy and RAC Discussion of OHV Guideline; Update on Wildland Urban Interface Issues and Outreach Efforts; Discussion of New RAC Working Group Assignments; Update Proposed Field Office Rangeland Resource Teams; Reports from BLM Field Office Managers; Reports by the Standards and Guidelines, Recreation and Public Relations, Wild Horse and Burro Working Groups; Reports from RAC members; and Discussion of future meetings. A public comment period will be provide at 11:30 a.m. on January 25, 2001, for any interested publics who wish to address the Council. On January 26, the RAC will tour BLM public land in the Yuma Wash Study Area. The tour will highlight some of the resource monitoring efforts for the Wild Horse and Burro Program.

FOR FURTHER INFORMATION CONTACT: Deborah Stevens, Bureau of Land Management, Arizona State Office, 222 North Central Avenue, Phoenix, Arizona 85004-2203, (602) 417-9215.

Michael A. Ferguson,
Acting State Director.

[FR Doc. 00-33333 Filed 12-28-00; 8:45 am]

BILLING CODE 4310-32-M